DEPARTMENT OF THE INTERIOR

Fish and Wildlife Service

[FWS-R3-R-2009-N167; 30136-1265-0000-S3]

Muscatatuck National Wildlife Refuge: Jackson, Jennings, & Monroe Counties, IN

AGENCY: U.S. Fish and Wildlife Service, Department of the Interior.

ACTION: Notice of availability: Final Comprehensive Conservation Plan and Finding of No Significant Impact for Environmental Assessment.

SUMMARY: We, the U.S. Fish and Wildlife Service (Service), announce the availability of the Final Comprehensive Conservation Plan (CCP) and Finding of No Significant Impact (FONSI) for the Environmental Assessment (EA) for Muscatatuck National Wildlife Refuge (NWR). Goals and objectives in the CCP describe how the agency intends to manage the refuge over the next 15 years.

ADDRESSES: Copies of the Final CCP and FONSI/EA may be viewed at the Muscatatuck National Wildlife Refuge Headquarters or at public libraries near the refuge. You may access and download a copy via the Planning Web site at http://www.fws.gov/midwest/planning/muscatatuck, or you may obtain a copy on compact disk by contacting: U.S. Fish and Wildlife Service, Division of Conservation Planning, Bishop Henry Whipple Federal Building, 1 Federal Drive, Fort Snelling, MN 55111 (1-800-247-1247, extension 5429), or Muscatatuck National Wildlife Refuge, 12985 East U.S. Highway 50, Seymour, IN 47274 (812-522-4352). A limited number of hardcopies will be available for distribution at the Refuge Headquarters.

FOR FURTHER INFORMATION CONTACT: Marc Webber (812-522-4352).

SUPPLEMENTARY INFORMATION:

Introduction

With this notice, we complete the CCP process for Muscatatuck NWR, which we began by publishing a notice of intent on (72 FR 27587). For more information about the initial process, see that notice. We released the draft CCP and EA to the public, announcing and requesting comments in a notice of availability on April 3, 2009 (74 FR 15297).

Muscatatuck NWR, located in southeastern Indiana, was established in 1966 under the Migratory Bird Conservation Act for the protection and production of migratory birds and other wildlife. The refuge is comprised of 7,802 acres, including the 78-acre Restle Unit approximately 45 miles to the northwest. The Refuge also administers nine Farm Service Agency conservation easements, totaling 130.5 acres. The 97-acre Seep Springs Research Natural Area preserves one of only seven acid seep springs documented in the state.

The Draft CCP and EA were officially released for public review on April 6, 2009; the comment period lasted 33 days until May 8, 2009. Planning information was sent to over 1,000 individuals and organizations for review, resulting in 40 written comment submissions with over 150 individual comments. During the comment period the Refuge also hosted an open house to receive public comments and feedback on the CCP and EA documents. Approximately 25 people attended this event. A number of minor changes were made to the documents in response to comments, and one new objective was added regarding landscape-level conservation.

Selected Alternative

After considering the comments received, we have selected Alternative C (Balance Natural Processes and Constructed Units; Increased Focus on High Quality Priority General Public Uses) for implementation. Under the selected alternative the Refuge will rely on a combination of active management and natural processes to provide quality wildlife habitat for over 80 species of Regional Conservation Priority, including 3 species listed as federally threatened or endangered. Habitat management will trend toward more historic landscape conditions by expanding forest habitat areas and decreasing management of constructed wetlands. Wildlife-dependant recreation opportunities, biological surveys and monitoring activities, and invasive plant management would all increase under the preferred alternative. Partnerships will play a key role in meeting larger-landscape conservation challenges such as habitat fragmentation and global climate change.

Background

The National Wildlife Refuge System Administration Act of 1966, as amended by the National Wildlife Refuge System Improvement Act of 1997 (16 U.S.C. 668dd-668ee et seq.), requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation.

We will review and update the CCP at least every 15 years in accordance with the National Wildlife Refuge System Administration Act of 1966, as amended by the National Wildlife Refuge System Improvement Act of 1997, and the National Environmental Policy Act of 1969 (42 U.S.C. 4321-4370d).

Dated: August 24, 2009.
Thomas O. Melius,
Regional Director, U.S. Fish and Wildlife Service, Fort Snelling, Minnesota.

[FR Doc. E9-30647 Filed 12-24-09; 8:45 am]

BILLING CODE 4310-55-P